DEPARTMENT OF TRANSPORTATION

Office of the Secretary

14 CFR Part 382

49 CFR Part 27

[OST Docket No. OST-99-6159]

RIN 2105-AC81

Nondiscrimination on the Basis of Disability in Air Travel; Correction of Effective Date Under Congressional Review Act (CRA)

AGENCY: Office of the Secretary, Department of Transportation (DOT).

ACTION: Final rule; correction.

SUMMARY: On May 3, 2001, the Department of Transportation (DOT or Department) published a final rule amending its rules implementing the Air Carrier Access Act of 1986 (ACAA) and section 504 of the Rehabilitation Act of 1973 to require airports and air carriers to provide boarding assistance to individuals with disabilities by using ramps, mechanical lifts, or other suitable devices where level-entry boarding by loading bridge or mobile lounge is not available on any aircraft with a seating capacity of 31 or more passengers. This document corrects the effective date of the final rule published on May 3, 2001, to be consistent with the Congressional Review Act (CRA), enacted as part of the Small Business Regulatory Enforcement Fairness Act of 1966, 5 U.S.C. 801, 808. It does not change the implementation dates in the rule. Carriers and airports must still sign a written agreement no later than March 4, 2002 allocating responsibility for meeting the boarding assistance requirements, and the agreement must still provide that all actions necessary to ensure accessible boarding for passengers with disabilities are completed no later than December 2, 2002.

DATES: The effective date for the final rule that published on Thursday, May 3, 2001 at 66 FR 22107 is corrected from June 4, 2001 to November 9, 2001.

FOR FURTHER INFORMATION CONTACT: Blane A. Workie, Office of the General Counsel, Department of Transportation, 400 7th Street, SW., Room 4116, Washington, DC 20590, 202-366-9342 (voice), (202) 366-0511 (TTY), 202-366-7152 (fax), or blane.workie@ost.dot.gov (email). Arrangements to receive the rule in an alternative format may be made by contacting the above named individual.

SUPPLEMENTARY INFORMATION:

Background Information

The CRA, as added by the Small Business Regulatory Enforcement Fairness Act of 1996, generally provides that before a rule may take effect, the agency promulgating the rule must submit a rule report that includes a copy of the rule to each House of the Congress and to the Comptroller General of the United States. The effective date of the final rule on Nondiscrimination on the Basis of Disability in Air Travel published at 66 FR 22107, is corrected from June 4, 2001 to November 9, 2001 in order to comply with the CRA.

The implementation dates in the rule remain the same. While the Department acknowledges that it should have sent a copy of the final rule to Congress and the Comptroller General prior to the effective date of the final rule, the Department does not believe that it is necessary or advisable to revise the implementaiton dates in the rule. The public has not been unduly affected by this error, and revising the implementation dates on a rule that was published in May would cause confusion. Individuals who can demonstrate that the Department not submitting the rule to Congress and the Comptroller General unduly burdened them should provide comments to the Department.

Administrative Procedure Act

The Administrative Procedure Act provides that an agency may dispense with prior notice and opportunity for comment when the agency for good cause finds that such procedures are impracticable, unnecessary or contrary to the public interest, 5 U.S.C. 553(b)(3)(B). The Office of the Secretary (OST) has determined that prior notice and comment are unnecessary, because OST is merely correcting the effective date of the promulgated rule to be consistent with the congressional review requirements of the CRA as a matter of law and has no discretion in this matter. Thus, notice and public procedure are unnecessary. The agency finds that this constitutes good cause under 5 U.S.C. 553(b)(3)(B).

Issued this 2nd day of October, 2001, at Washington, DC.
Kirk K. Van Tine,
General Counsel, Department of Transportation.

[FR Doc. 01-25371 Filed 10-9-01; 8:45 am]

BILLING CODE 4910-62-M